DEPARTMENT OF AGRICULTURE

Forest Service

Deschutes Provincial Advisory Committee (PAC)

AGENCY: Forest Service, Agriculture.

ACTION: Notice of meeting.

SUMMARY: The Deschutes Provincial Advisory Committee will meet on March 14, 2002 at the Crook County Library, Broughton Room, 200 E. 2nd Street in Prineville, Oregon. A business meeting will begin at 9:00 am and finish at 4:00 pm. Agenda items will include a discussion on PAC recommendations regarding the Northwest Forest Plan, Empowering Counties/Communities, and update on Timber Sales in Central Oregon, Trout Creek update, an update on the local Noxious Weed Program, an update on the Hosmer, Metolius Basin and the Upper Deschutes Resource Management Plan Subcommittees, Info Sharing and a Public Forum from 3:30 pm till 4:00 pm. All Deschutes Province Advisory Committee Meetings are open to the public.

FOR FURTHER INFORMATION CONTACT: Chris Mickle, Province Liaison, USDA, Bend-Ft. Rock Ranger District, 1230 NE., 3rd, Bend, OR, 97701, Phone (541) 383-4769.

Dated: February 16, 2002.
Leslie A.C. Weldon,
Forest Supervisor.

[FR Doc. 02-4364 Filed 2-22-02; 8:45 am]

BILLING CODE 3410-11-M